INTERNATIONAL TRADE COMMISSION

[USITC SE-23-053]

Sunshine Act Meetings

AGENCY HOLDING THE MEETING: United States International Trade Commission.

TIME AND DATE: November 9, 2023 at 11 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. No. 731-TA1103 (Third Review)(Activated Carbon from China). The Commission currently is scheduled to complete and file its determinations and views of the Commission on November 17, 2023.

5. Commission vote on Inv. Nos. 701-TA-694 and 731-TA-1641-1642 (Preliminary) (Aluminum Lithographic Printing Plates from China and Japan). The Commission currently is scheduled to complete and file its determinations on November 13, 2023; views of the Commission currently are scheduled to be completed and filed on November 20, 2023.

6. Outstanding action jackets: none.

CONTACT PERSON FOR MORE INFORMATION: Sharon Bellamy, Supervisory Hearings and Information Officer, 202-205-2000.

The Commission is holding the meeting under the Government in the Sunshine Act, 5 U.S.C. 552(b). In accordance with Commission policy, subject matter listed above, not disposed of at the scheduled meeting, may be carried over to the agenda of the following meeting.

By order of the Commission.
Issued: October 31, 2023.
Sharon Bellamy,
Supervisory Hearings and Information Officer.

[FR Doc. 2023-24363 Filed 10-31-23; 4:15 pm]

BILLING CODE 7020-02-P